DEPARTMENT OF EDUCATION

Notice of Proposed Information Collection Requests

AGENCY: Department of Education.

ACTION: Correction notice.

SUMMARY: On March 10, 2005, the Department of Education published a notice in the Federal Register (Page 11947, Column 3) for the information collection, “State Library Agencies Survey, 2005-2007.” The link number to access this collection is hereby corrected to 2709. The Leader, Information Management Case Services Team, Regulatory Information Management Services, Office of the Chief Information Officer, hereby issues a correction notice as required by the Paperwork Reduction Act of 1995.

Dated: March 11, 2005.
Angela C. Arrington,
Information Management Case Services Team, Regulatory Information Management Services, Office of the Chief Information Officer.

[FR Doc. 05-5258 Filed 3-16-05; 8:45 am]

BILLING CODE 4000-01-P